DEPARTMENT OF THE TREASURY

Office of Foreign Assets Control

[Case ID: SOM-1066]

Additional Designation of Persons Whose Property and Interests in Property Are Blocked Pursuant to Executive Order 13536 of April 12, 2010, “Blocking Property of Certain Persons Contributing to the Conflict in Somalia”

AGENCY: Office of Foreign Assets Control, Treasury.

ACTION: Notice.

SUMMARY: The Treasury Department's Office of Foreign Assets Control (“OFAC”) is publishing the names of 6 individuals whose property and interests in property are blocked pursuant to Executive Order 13536 of April 12, 2010, “Blocking Property of Certain Persons Contributing to the Conflict in Somalia.”

FOR FURTHER INFORMATION CONTACT: Assistant Director, Compliance Outreach & Implementation, Office of Foreign Assets Control, Department of the Treasury, 1500 Pennsylvania Avenue NW. (Treasury Annex), Washington, DC 20220, Tel.: 202/622-2490.

SUPPLEMENTARY INFORMATION:

Electronic and Facsimile Availability

The List of Specially Designated Nationals and Blocked Persons (“SDN List”) and additional information concerning OFAC are available from OFAC's Web site (www.treas.gov/ofac). Certain general information pertaining to OFAC's sanctions programs also is available via facsimile through a 24-hour fax-on-demand service, tel.: 202/622-0077.

Background

On April 12, 2010, the President issued the Executive Order “Blocking Property of Certain Persons Contributing to the Conflict in Somalia” (the “Order”) pursuant to, inter alia, the International Emergency Economic Powers Act (50 U.S.C. 1701-06). In the Order, the President declared a national emergency to address the deterioration of the security situation and the persistence of violence in Somalia and acts of piracy and armed robbery at sea off the coast of Somalia.

Section 1 of the Order blocks, with certain exceptions, all property and interests in property that are in the United States, that come within the United States, or that are or come within the possession or control of any United States person, of persons listed in the Annex to the Order and of persons determined by the Secretary of the Treasury, in consultation with the Secretary of State, to satisfy certain criteria set forth in the Order.

The Annex to the Order lists eleven individuals and one entity whose property and interests in property are blocked pursuant to the Order. Today, OFAC is publishing additional identifying information of persons contributing to the conflict in Somalia. The listing of the blocked 6 individuals is as follows:

1. ABD EL-RAHMAN, Suhayl Salim (a.k.a. ABDURAHAMAN, Suhayl; a.k.a. AL-SUDANI, Abu Faris; a.k.a. FARIS, Abu; a.k.a. MUHAMMAD, Sahib; a.k.a. MUHAMMAD, Suhayl Salim; a.k.a. SALIM, Suhayl; a.k.a. UL-ABIDEEN, Zain; a.k.a. ZAYN, Haytham; a.k.a. “SABA”; a.k.a. “SANA”; a.k.a. “SUNDUS”); DOB 17 Jun 1984; alt. DOB 1990; POB Rabak, Sudan; Passport C0004350; Personal ID Card A00710804 (individual) [SOMALIA].

2. AHMED, Abubaker Shariff (a.k.a. AHMED, Abubakar; a.k.a. AHMED, Abubaker Shariff; a.k.a. AHMED, Sheikh Abubakar; a.k.a. MAKABURI; a.k.a. SHARIFF, Abu Makaburi; a.k.a. SHARIFF, Abubaker), Majengo Area, Mombasa, Kenya; DOB 1962; alt. DOB 1967; POB Kenya; citizen Kenya (individual) [SOMALIA].

3. GOITOM, Taeme Abraham (a.k.a. GEBREDENGEL, Simon; a.k.a. GOITOM, Te'ame; a.k.a. SELASSIE, Ta'ame Abraham; a.k.a. SELASSIE, Te'ame Abraha; a.k.a. SELASSIE, Te'ame Abraham; a.k.a. TA'AME, Abraham Selassie; a.k.a. “DA'AME”; a.k.a. “DHA'AME”; a.k.a. “GAAMEI”; a.k.a. “MEKELE”; a.k.a. “MEKELLE”; a.k.a. “MEQELE”; a.k.a. “TESFALEN”; a.k.a. “TSEGAI”); DOB 1957; alt. DOB 1956; POB Akale Guzay (Shemejena); Diplomatic Passport Laissez-Passer 02154; Colonel; Head of Eritrean External Intelligence Operation; Brigadier General (individual) [SOMALIA].

4. MOHAMMED, Aboud Rogo (a.k.a. MOHAMED, Aboud Rogo; a.k.a. MUHAMMAD, Aboud Rogo; a.k.a. ROGO, Aboud Mohammad; a.k.a. ROGO, Aboud Mohammed; a.k.a. ROGO, Aboud Seif; a.k.a. ROGO, Sheikh Aboud); DOB 11 Nov 1960; alt. DOB 11 Nov 1967; alt. DOB 11 Nov 1969; alt. DOB 01 Jan 1969; POB Kenya; alt. POB Lamu Island, Kenya; citizen Kenya (individual) [SOMALIA].

5. NEGASH, Tewolde Habte (a.k.a. KIDANE, Amanuel; a.k.a. MEHAREN, Senay Beraki; a.k.a. MUSA, Abdirahim; a.k.a. MUSA, Abdirahman; a.k.a. MUSE, Abdirahim; a.k.a. MUSE, Abdirahman; a.k.a. NAGASH, Tewaled Holde; a.k.a. NAGESH, Tewaled Holde; a.k.a. NEGASH, Bitewelde Habte; a.k.a. NEGASH, Emanuel; a.k.a. NEGASH, Ole; a.k.a. NEGASH, Tewelde Habte; a.k.a. NEGASH, Tewold Habte; a.k.a. “DESTA”; a.k.a. “WEDI”); DOB 05 Sep 1960; POB Asmara, Eritrea; Diplomatic Passport D0001060; alt. Diplomatic Passport D000080; Colonel (individual) [SOMALIA].

6. OMAR, Omar Awadh (a.k.a. AWADH, Omar; a.k.a. SAHAL, Omar); DOB 20 Sep 1973; POB Mombasa, Kenya; Passport A764712 (Kenya) expires 27 Mar 2013; alt. Passport B002271 (Kenya); alt. Passport KE007776 expires Aug 2009; Possibly Located in Kenya (individual) [SOMALIA].

Dated: July 5, 2012.
Adam J. Szubin,
Director, Office of Foreign Assets Control.

[FR Doc. 2012-16854 Filed 7-10-12; 8:45 am]

BILLING CODE P